DEPARTMENT OF THE INTERIOR

Bureau of Land Management

[WY-030-1310-DB]

Notice of Retraction of a Notice of Availability of the Final Environmental Impact Statement for the Atlantic Rim Natural Gas Development Project

AGENCY: Bureau of Land Management, Interior.

ACTION: Notice of retraction.

SUMMARY: The Bureau of Land Management (BLM) inadvertently published a Notice of Availability of the Final Environmental Impact Statement for the Atlantic Rim Natural Gas Development Project in the Federal Register on Wednesday, August 9, 2006 (FR 71 45576). BLM will publish this Notice of Availability at a later date.

FOR FURTHER INFORMATION CONTACT: Mr. David Simons, Project Lead, BLM Rawlins Field Office, 1300 N. Third Street, Rawlins, WY 82301.

Dated: August 9, 2006.
Robert A. Bennett,
State Director.

[FR Doc. 06-7369 Filed 8-31-06; 8:45 am]

BILLING CODE 4310-22-M